FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer Cindy Ayouch-- Division of Research and Statistics, Board of Governors of the Federal Reserve System, Washington, DC 20551 (202-452-3829); OMB Desk Officer Joseph Lackey--Office of Information and Regulatory Affairs, Office of Management and Budget, New Executive Office Building, Room 10235, Washington, DC 20503.

Final Approval Under OMB Delegated Authority of The Extension For Three Years, With Revision, of the Following Reports:

Report title: Survey of Terms of Bank Lending

Agency form number: FR 2028A, FR 2028B, and FR 2028S

OMB control number: 7100-0061

Frequency: Quarterly

Reporters: commercial banks (all three reports) and U.S. branches and agencies of foreign banks (FR 2028A and FR 2028S)

Annual reporting hours: 8,095 hours

Estimated average hours per response: FR 2028A: 4.0. FR 2028B: 1.5. FR 2028S: 0.1.

Number of respondents: FR 2028A: 398. FR 2028B: 250. FR 2028S: 567.

Small businesses are affected.

General description of report: This information collection is voluntary (12 U.S.C. 248(a)(2)) and is given confidential treatment (5 U.S.C. 552(b)(4)).

Abstract: The Survey of Terms of Bank Lending provides unique information concerning the price and certain nonprice terms of loans made to businesses and farmers by commercial banks. The reports are completed for the first full business week of the mid-month of each quarter (February, May, August, and November). The FR 2028A and B collect detailed data on individual loans made during the survey week. The FR 2028S collects the prime interest rate for each day of the survey. From these sample STBL data, estimates of the terms of business and farm loans extended during the reporting week at all insured U.S. commercial banks are constructed. The estimates for business loans are published in the quarterly E.2 release, “Survey of Terms of Bank Lending,” while estimates for farm loans are published in the quarterly E.15 release, “Agricultural Finance Databook.”

Current actions: On December 3, 2002, the Federal Reserve published a notice soliciting comments for 60 days on proposed revisions to the Survey of Terms of Bank Lending (67 FR 71969). The notice described the Federal Reserve's proposal to revise the FR 2028A by: (1) adding a field for the date on which the terms, including pricing, for loans made under formal commitment became effective, (2) reducing the number of base pricing rate options from five to one, (3) deleting the item indicating whether loans are callable, (4) modifying the format of the recalculation and maturity date items, and (5) making minor clarifications to the instructions. The Federal Reserve also proposed to revise the FR 2028B by modifying the format of the recalculation and maturity date items. The FR 2028A and FR 2028B reporting instructions will be revised according to the proposed changes, with other minor clarifications. No changes are being made to the FR 2028S. The Federal Reserve did not receive any comments on the proposed changes. The revisions to the reporting forms and instructions will be effective for the May 2003 survey week.

Board of Governors of the Federal Reserve System, February 11, 2003.

Jennifer J. Johnson
Secretary of the Board.

[FR Doc. 03-3822 Filed 2-14-03; 8:45 am]

BILLING CODE 6210-01-S